DEPARTMENT OF LABOR

Mine Safety and Health Administration

[OMB Control No. 1219-0034]

Proposed Extension of Existing Information Collection; Records of Tests and of Examinations of Personnel Hoisting Equipment

AGENCY: Mine Safety and Health Administration, Labor.

ACTION: Notice of request for public comments.

SUMMARY: The Department of Labor, as part of its continuing effort to reduce paperwork and respondent burden, conducts a pre-clearance consultation program to provide the general public and Federal agencies with an opportunity to comment on proposed and continuing collections of information in accordance with the Paperwork Reduction Act of 1995 [44 U.S.C. 3506(c)(2)(A)]. This program helps to assure that requested data can be provided in the desired format, reporting burden (time and financial resources) is minimized, collection instruments are clearly understood, and the impact of collection requirements on respondents can be properly assessed. Currently, the Mine Safety and Health Administration (MSHA) is soliciting comments concerning the extension of the information collection for Records and Tests of Personnel Hoisting Equipment, 30 CFR 56/57.19022 and 30 CFR 75/77.1432 (Initial measurement); 30 CFR 56/57.19023 and 30 CFR 75/77.1433 (Examinations); 30 CFR 56/57.19121 (Recordkeeping); 30 CFR 75.1400-2 (Hoists; tests of safety catches; records); 30 CFR 75.1400-4 and 77.1404 (Certifications and records of daily examinations); and 30 CFR 77.1906 (Hoists; daily inspection).

DATES: All comments must be postmarked and received by March 21, 2011.

ADDRESSES: Comments must clearly be identified with the rule title and may be submitted to MSHA by any of the following methods:

(1) Electronic mail: zzMSHA-Comments@dol.gov.

(2) Facsimile: 202-693-9441.

(3) Regular Mail: MSHA, Office of Standards, Regulations, and Variances, 1100 Wilson Boulevard, Room 2350, Arlington, VA 22209-3939.

(4) Hand Delivery or Courier: MSHA, Office of Standards, Regulations, and Variances, 1100 Wilson Boulevard, Room 2350, Arlington, VA 22209-3939. Sign in at the receptionist's desk on the 21st floor.

FOR FURTHER INFORMATION CONTACT: Mario Distasio, Chief of the Economic Analysis Division, Office of Standards, Regulations, and Variances, MSHA, at distasio.mario@dol.gov (e-mail), 202-693-9445 (voicemail), 202-693-9441 (facsimile).

SUPPLEMENTARY INFORMATION:

I. Background

Section 103(h) of the Federal Mine Safety and Health Act of 1977 (Mine Act), 30 U.S.C. 813, authorizes MSHA to collect information necessary to carry out its duty in protecting the safety and health of miners.

Under Title 30 of the Code of Federal Regulations (CFR), MSHA has requirements that address hoists and appurtenances, including wire rope, used for hoisting persons. The requirements address both metal and nonmetal surface and underground mines (30 CFR parts 56 and 57); and underground coal and surface work areas of underground coal mines (30 CFR parts 75 and 77).

Title 30 CFR 56/57.19022 and 30 CFR 75/77.1432 requires newly installed wire rope to be measured at least once in every third interval of the rope's active length to establish a baseline for subsequent semiannual measurements. A record of the measurements is required to be made and retained until the rope is retired from service.

Title 30 CFR 56/57.19023 and 30 CFR 75/77.1433 requires the wire rope to be visually examined at least every fourteen days for visible structural damage, corrosion, and improper lubrication or dressing. If the examination reveals weakening portions of the rope, the weakened portions must be monitored daily for further deterioration until retirement criteria require that the rope be removed from service. The person conducting the examination must certify that the examination was made and the record must be retained for one year.

Title 30 CFR 56/57.19121 requires the person conducting the inspection, test or examination of hoisting equipment certify that these activities have been done. Any unsafe conditions must be noted in a record and dated. All certifications and records must be retained for one year.

Title 30 CFR 75.1400-2 requires a record to be made of tests conducted on safety catches. Safety catches are the last means to safely stop a falling conveyance in the event of rope or equipment failure.

Title 30 CFR 75.1400-4 and 77.1404 require a record to be made of each daily examination. If any unsafe condition is found during the examination, the person conducting the examination must make a record of the condition. All certifications and records must be retained for one year.

Title 30 CFR 77.1906 requires a daily examination of hoists used for shaft sinking. If any unsafe condition is found during the examination, the person conducting the examination must make a record of the condition. All certifications and records must be retained for one year.

II. Desired Focus of Comments

MSHA is particularly interested in comments that:

• Evaluate whether the collection of information is necessary for the proper performance of the functions of the agency, including whether the information has practical utility;

• Evaluate the accuracy of the agency's estimate of the burden of the collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

A copy of the information collection request can be obtained by contacting the person listed in the FOR FURTHER INFORMATION CONTACT section of this notice, or viewed on the Internet by selecting “Rules & Regs,” and then selecting “FedReg.Docs.” On the next screen, select “Paperwork Reduction Act Supporting Statement” to view documents supporting the Federal Register notice.

III. Current Actions

This notice contains a request for public comment on the extension of the existing collection of information in 30 CFR 56.19022, 56.19023, 56.19121, 57.19022, 57.19023, 57.19121, 75.1400-2, 75.1400-4, 75.1432, 75.1433, 77.1404, 77.1432, 77.1433 and 77.1906; Records of Tests and of Examinations of Personnel Hoisting Equipment. MSHA does not intend to publish the results from this information collection and is not seeking approval to either display or not display the expiration date for the OMB approval of this information collection.

There are no certification exceptions identified with this information collection and the collection of this information does not employ statistical methods.

Type of Review: Extension.

Agency: Mine Safety and Health Administration.

OMB Number: 1219-0034.

Frequency: On occasion.

Affected Public: Business or other for-profit.

Cost to Federal Government: $0.00.

Total Burden Respondents: 286 (70 MNM + 216 Coal).

Total Number of Responses: 92,548 (20,188 MNM + 72,360 Coal).

Total Burden Hours: 7,726 hours.

Total Hour Burden Cost (operating/maintaining): $343,200.

Comments submitted in response to this notice will be summarized and included in the request for Office of Management and Budget approval of the information collection request; they will also become a matter of public record.

Dated: January 13, 2011.
Patricia W. Silvey,
Certifying Officer.

[FR Doc. 2011-972 Filed 1-18-11; 8:45 am]

BILLING CODE 4510-43-P